DEPARTMENT OF HEALTH AND HUMAN SERVICES

Agency for Healthcare Research and Quality

Request for Planning Ideas for Development of an AHRQ Innovations Research Portfolio

AGENCY: Agency for Healthcare Research and Quality (AHRQ), HHS.

ACTION: Notice of Request for Ideas.

SUMMARY: AHRQ is establishing a new research portfolio, the Innovations Portfolio. The Portfolio goal is to identify and support research that has the potential to accelerate improvements in the organization, delivery, and management of healthcare. AHRQ seeks ideas on priority topics and activities that should be addressed as components of the Innovations Portfolio.

DATES: Please submit comments no later than October 14, 2008.

ADDRESSES: Submissions should be brief (no more than three pages per recommendation), and should be in the form of a letter or e-mail, preferably with an electronic file in a standard word processing format as an e-mail attachment. Responses to this request should be submitted to Francis D. Chesley, Jr., M.D., Agency for Health Care Research and Quality, 540 Gaither Road, Room 2034, Rockville, MD 20850, FAX: (301) 427-1562, e-mail: francis.chesley@ahrq.hhs.gov.

In order to facilitate handling of submissions, please include full information about the person submitting the recommendation: (a) Name, (b) title; (c) organization, (d) mailing address, (e) telephone number, and (f) e-mail address. Please do not use acronyms.

FOR FURTHER INFORMATION CONTACT: Francis D. Chesley, Jr., M.D., (301) 427-1449 or at francis.chesley@ahrg.hhs.gov. All responses will be available for public inspection at AHRQ's Office of Extramural Research, Education, and Priority Populations weekdays between 8:30 a.m. and 5 p.m. Arrangements for reviewing the submissions may be made by calling (301) 427-1449.

SUPPLEMENTARY INFORMATION:

Background

The Innovations Portfolio is focused on creating resources and opportunity for exploration and discovery. The Innovations Portfolio was created to identify and support research that has the potential for high impact. These ideas will be novel and span a diverse array of disciplines. The portfolio will foster and nurture ideas and projects that have the potential to lead to highly innovative solutions that may lead to significant advances in healthcare organization, delivery, and management. Research and activities supported under the Innovations Portfolio will reflect ideas substantially different from those already being pursued by AHRQ. The portfolio will fund a transformative research agenda to solve pressing healthcare problems. Thus, the main focus of the portfolio is problem solving in order to accelerate improvement in healthcare.

Ideas are sought for topics to be supported by the Innovations Portfolio. Ideas are also sought regarding specific strategies to foster innovative approaches and programs. Comments and ideas may address new and emerging priority issues and areas that should be the focus of research in the Innovations Portfolio, mechanisms for identifying and engaging partners for this important work, or any related topic.

Dated: August 4, 2008.
Carolyn M. Clancy,
Director.

[FR Doc. E8-18671 Filed 8-14-08; 8:45 am]

BILLING CODE 4160-90-M